DEPARTMENT OF DEFENSE

Office of the Secretary

[Transmittal No. 17-36]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-36 with attached Policy Justification and Sensitivity of Technology.

Dated: October 18, 2017.
Aaron Siegel,
Alternate OSD Federal Register Liaison Officer, Department of Defense.

BILLING CODE 5001-06-P

BILLING CODE 5001-06-C

Transmittal No. 17-36

Notice of Proposed Issuance of Letter of Offer Pursuant to Section 36(b)(1) of the Arms Export Control Act, as amended

(i) Prospective Purchaser: Government of Romania

(ii) Total Estimated Value:

Major Defense Equipment* | $ .900 billion
Other | $ .350 billion
TOTAL | $1.250 billion

(iii) Description and Quantity or Quantities of Articles or Services under Consideration for Purchase:

Major Defense Equipment (MDE):

Fifty-four (54) High Mobility Artillery Rocket Systems (HIMARS) Launchers

Eighty-one (81) Guided Multiple Launch Rocket Systems (GMLRS) M31A1 Unitary

Eighty-one (81) Guided Multiple Launch Rocket Systems (GMLRS) M30A1 Alternative Warhead

Fifty-four (54) Army Tactical Missile Systems (ATACMS) M57 Unitary

Twenty-four (24) Advanced Field Artillery Tactical Data Systems (AFATDS)

Fifteen (15) M1151A1 HMMWVs, Utility, Armored

Fifteen (15) M1151A1 HMMWVs, Armor Ready 2-Man

Non-MDE includes:

Fifty-four (54) M1084A1P2 HIMARS Resupply Vehicles (RSVs) (5 ton, Medium Tactical Cargo Vehicle with Material Handling Equipment)

Fifty-four (54) M1095 MTV Cargo Trailers w/RSV kit

Ten (10) M1089A1P2 FMTV Wreckers (5 Ton Medium Tactical Vehicle Wrecker with Winch)

Also included are thirty (30) Low Cost Reduced Range (LCRR) practice rockets, support equipment, communications equipment, sensors, spare and repair parts, test sets, batteries, laptop computers, publications and technical data, facility design, training and training equipment, systems integration support, Quality Assurance Teams and a Technical Assistance Fielding Team, U.S. Government and contractor technical, engineering, and logistics support services, and other related elements of logistics and program support.

(iv) Military Department: Army

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 17, 2017

* As defined in Section 47(6) of the Arms Export Control Act.

POLICY JUSTIFICATION

Romania—High Mobility Artillery Rocket Systems (HIMARS) and Related Support and Equipment

The Government of Romania has requested the possible sale of fifty-four (54) High Mobility Artillery Rocket Systems (HIMARS) Launchers, eighty-one (81) Guided Multiple Launch Rocket Systems (GMLRS) M31A1 Unitary, eighty-one (81) Guided Multiple Launch Rocket Systems (GMLRS) M30A1 Alternative Warhead, fifty-four (54) Army Tactical Missile Systems (ATACMS) M57 Unitary, twenty-four (24) Advanced Field Artillery Tactical Data Systems (AFATDS), fifteen (15) M1151A1 HMMWVs, Utility, Armored, and fifteen (15) M1151A1 HMMWVs, Armor Ready 2-Man. Also included with this request are: fifty-four (54) M1084A1P2 HIMARS Resupply Vehicles (RSVs) (5 ton, Medium Tactical Cargo Vehicle with Material Handling Equipment), fifty-four (54) M1095 MTV Cargo Trailer with RSV kit, and ten (10) M1089A1P2 FMTV Wreckers (5 Ton Medium Tactical Vehicle Wrecker with Winch), thirty (30) Low Cost Reduced Range (LCRR) practice rockets, support equipment, communications equipment, sensors, spare and repair parts, test sets, batteries, laptop computers, publications and technical data, facility design, training and training equipment, systems integration support, Quality Assurance Teams and a Technical Assistance Fielding Team, U.S. Government and contractor technical, engineering, and logistics support services, and other related elements of logistics and program support. The total estimated program cost is $1.25 billion.

This proposed sale will support the foreign policy and national security objectives of the United States by helping to improve the security of a NATO ally that has been, and continues to be an important force for political stability and economic progress within Europe. The proposed sale of the HIMARS system will support Romania's needs for its own self-defense and support NATO defense goals.

The Government of Romania intends to use these defense articles and services to modernize its armed forces and strengthen its homeland defense and deter regional threats. This will contribute to Romania's military goal of updating its capabilities while further enhancing interoperability with the United States and other NATO allies. Romania will have no difficulty absorbing this system into its armed forces.

The proposed sale of this equipment and support will not alter the basic military balance in the region.

The prime contractors will be Lockheed-Martin in Grand Prairie, Texas and Camden, Arkansas. There are no known offset agreements proposed in connection with this potential sale.

Implementation of this proposed sale will require approximately the assignment of up to 10 U.S. Government or contractor representatives to travel to Romania for a period of up to one year for equipment de-processing/fielding, system checkout, training, and technical and logistics support.

There will be no adverse impact on U.S. defense readiness as a result of this proposed sale.

Transmittal No. 17-36

Notice of Proposed Issuance of Letter of Offer Pursuant to Section 36(b)(1) of the Arms Export Control Act

Annex Item No. vii

(vii) Sensitivity of Technology:

1. The High Mobility Artillery Rocket Systems (HIMARS) is a highly mobile, all-weather indirect area fire artillery system. The HIMARS mission is to supplement cannon artillery to deliver a large volume of firepower within a short time against critical time-sensitive targets. At shorter ranges, HIMARS complements tube artillery with heavy barrages against assaulting forces as well as in the counter-fire, or defense suppression roles. The highest level of classified information that could be disclosed by a proposed sale, production, or by testing of the end item is SECRET; the highest level that must be disclosed for production, maintenance, or training is CONFIDENTIAL. Reverse engineering could reveal SECRET information. Launcher platform software, weapon operational software, command and control special application software, and command and control loadable munitions module software are considered UNCLASSIFIED. The system specifications and limitations are classified SECRET. Vulnerability data is classified up to SECRET. Countermeasures, counter-countermeasures, vulnerability/susceptibility analyses, and threat definitions are classified SECRET.

2. The highest classification level for release of the ATACMS Unitary M57 FMS Variant is SECRET, based upon the software. The highest level of classified information that could be disclosed by a sale or by testing of the end item is SECRET; the highest level that must be disclosed for production, maintenance, or training is CONFIDENTIAL. Reverse engineering could reveal CONFIDENTIAL information. Fire Direction System, Data Processing Unit, and special Application software is classified SECRET. Communications Distribution Unit software is classified CONFIDENTIAL. The system specifications and limitations are classified CONFIDENTIAL. Vulnerability Data, countermeasures, vulnerability/susceptibility analyses, and threat definitions are classified SECRET or CONFIDENTIAL.

3. Guided Multiple Launch Rocket System Alternative Warhead (GMLRS-AW) M30A1. The GMLRS-AW, M30A1, is the next design increment of the GMLRS rocket. The GMLRS-AW M30A1 hardware is over 90% common with the M31A1 GMLRS Unitary hardware. Operational range is between 15-70 kilometers. Accuracy of less than 15 meters Circular Error Probability at all ranges, when using inertial guidance with Global Positioning System (GPS) augmentation. Uses a proximity sensor fuze mode with a 10 meter height of burst. The Alternative Warhead carries a 200 pound fragmentation assembly filled with high explosives which, upon detonation, accelerates two layers of pre-formed tungsten fragments optimized for effectiveness against large area and imprecisely located targets. The GMLRS-AW provides an area target attack capability that is treaty compliant (no un-exploded ordnance). It provides a 24 hour, all weather, long range attack capability against personnel, soft and lightly armored targets, and air defense targets. The GMLRS-AW uses the same motor, guidance and control systems fuze mechanisms, and proximity sensors as the M31A1 GMLRS Unitary. The highest classification level for release of the GMLRS-AW is SECRET, based upon the software, sale or testing of the end item. The highest level of classification that must be disclosed for production, maintenance, or training is CONFIDENTIAL.

4. The GPS PPS component of the HIMARS munitions (GMLRS Unitary, Alternative Warhead, and ATACMS Unitary) is also contained in the Fire Direction System, is classified SECRET, and is considered SENSITIVE. To that end, no GPS PPS design information, including GPS software algorithms, will be disclosed in the course of this sale to country. Susceptibility of GMLRS to diversion or exploitation is considered low risk. GMLRS employs an inertial navigational system that is aided by a Selective Availability Anti-Spoofing Module (SAASM) equipped GPS receiver. To that end, this system requires encryption keys controlled by, and issued by, the National Security Agency.

5. AFATDS is a multi-service (U.S. Army and U.S. Marine Corps) automated, expert decision support system used for Command, Control, Communications and integration and synchronization of fires on ground targets during all phases of military conflict. AFATDS provides the automated tools that significantly augment the capability of fire support coordinators, fire support assets commanders, and their respective staffs at every echelon during the planning and execution of fire support on the dynamic battlefields in support of the Maneuver Commander and his plans.

6. The classification of the request for assistance and customized AFATDS with sanitized and customized JMEM and LMM, and/or with functionally compatible but UNCLASSIFIED modular substitutes for COMSEC, JMEM, and LMM capabilities, is available for Foreign Military Sales (FMS) with the following restrictions and caveats. The software source code and design specifications are UNCLASSIFIED but considered highly sensitive and are not available for FMS. The following items, while they are unclassified they are not individually freely and openly releasable, however, they can be offered for FMS as individually and specifically included items of complete system procurements: executable code, training manuals, user manuals, and system documentation such as external system architecture diagrams, high level internal software architecture diagrams, the Version Description Document, and the System Administrator Manual as customized for each individual FMS customer. The highest level of information that is necessarily disclosed during maintenance of these sanitized systems and applications is UNCLASSIFIED/FOUO. The highest level of sensitive information that is necessarily disclosed by the sale of these sanitized systems and applications is UNCLASSIFIED/FOUO. The highest level of information that is necessarily disclosed to allow system administration of these sanitized systems and applications UNCLASSIFIED/FOUO. The highest level of information that is necessarily disclosed in training of these sanitized systems and applications is UNCLASSIFIED/FOUO. The highest level of information that could be revealed by reverse engineering or testing of these systems is UNCLASSIFIED/FOUO. Through scanning or testing these sanitized systems and applications, specific vulnerabilities could be disclosed, and will be treated at UNCLASSIFIED/FOUO. The identification of these vulnerabilities with U.S.-only systems is CLASSIFIED, per Section 6.3. Participants of the FMS process shall not make references to U.S.-only system maintenance, administration, or technical details because they could be considered SECRET.

7. Susceptibility of ATACMS Unitary M57 FMS Variant, GMLRS M30A1 and M31A1 to diversion or exploitation is considered low risk. Components of the system are also considered highly resistant to reverse engineering. Detailed knowledge of the technical capabilities of the system could enable an enemy to tailor defenses and adjust tactics and procedures to minimize the effectiveness of the system.

8. Susceptibility of AFATDS to diversion or exploitation is considered low risk. Software of the system are also considered highly resistant to reverse engineering. Detailed knowledge of the technical capabilities of the system could enable an enemy to tailor defenses and adjust tactics and procedures to minimize the effectiveness of the system. Training and user manuals are unclassified but considered sensitive and not for general release to foreign nationals, except that they will be provided with the system when the system is procured through foreign military sales. Installation instructions are unclassified but considered sensitive and not for general release to foreign nationals, except that they will be provided with the system when the system is procured through FMS.

9. If a technologically advanced adversary were to obtain knowledge of the specific hardware and software, the information could be used to develop countermeasures, which might reduce weapon system effectiveness or be used in the development of a system with similar or advanced capabilities.

10. This sale is necessary in furtherance of the U.S. foreign policy and national security objectives outlined in the enclosed Military Policy Justification. Moreover, the benefits to be derived from this sale outweigh the potential damage that could result if the sensitive technology were revealed to unauthorized persons. A determination has been made that Romania can provide the same degree of protection for the sensitive technology being released as the U.S. Government.

11. All defense articles and services listed in this transmittal have been authorized for release and export to Romania.

[FR Doc. 2017-22984 Filed 10-23-17; 8:45 am]

BILLING CODE 5001-06-P